DEPARTMENT OF ENERGY

Federal Energy Regulatory Commission

Sunshine Act Meeting

February 13, 2003.

The following Notice of Meeting is published pursuant to section 3(A) of the Government in the Sunshine Act (Pub. L. 94-409), 5 U.S.C 552B:

AGENCY HOLDING MEETING: Federal Energy Regulatory Commission.

DATE AND TIME: February 20, 2003, 10:00 a.m.

PLACE: Room 2C, 888 First Street, NE, Washington, DC 20426.

STATUS: Open.

MATTERS TO BE CONSIDERED: Agenda * Note—Items Listed on The Agenda May Be Deleted Without Further Notice.

CONTACT PERSON FOR MORE INFORMATION: Magalie R. Salas, Secretary, Telephone (202) 502-8400, For a Recording Listing Items Stricken From or Added to the Meeting, call (202) 502-8627.

This is a list of matters to be considered by the Commission. It does not include a listing of all papers relevant to the items on the Agenda; However, all public documents may be examined in the reference and information center.

819TH—Meeting February 20, 2003, Regular Meeting 10:00 a.m.

Administrative Agenda

A-1.

Docket# AD02-1, 000, Agency Administrative Matters

A-2.

Docket# AD02-7, 000, Customer Matters, Reliability, Security and Market Operations

Markets, Tariffs and Rates—Electric

E-1.

Docket# EL03-36, 000, D.E. Shaw Plasma Power, L.L.C.

E-2.

Docket# EC03-30, 000, Illinois Power Company, Illinois Electric Transmission Company, LLC and Trans-Elect, Inc.

Other#s ER03-284, 000, Illinois Power Company, Illinois Electric Transmission Company, LLC and Trans-Elect, Inc.

E-3.

Docket# EC03-40, 000, ITC Holdings Corporation, ITC Holdings Limited Partnership, International Transmission Company, DTE Energy Company and Detroit Edison Company

Other#s ER03-343, 000, ITC Holdings Corporation, ITC Holdings Limited Partnership, International Transmission Company, DTE Energy Company and Detroit Edison Company

E-4.

Docket# ER98-1438, 014, Midwest Independent Transmission System Operator, Inc.

Other#s EC98-24, 008, Midwest Independent Transmission System Operator, Inc.

ER01-479, 004, Midwest Independent Transmission System Operator, Inc.

E-5.

Docket# EL03-35, 000, Midwest Independent Transmission System Operator, Inc.

E-6.

Omitted

E-7.

Docket# ER03-332, 000, PJM Interconnection L.L.C.

E-8.

Docket# ES02-51, 000, Westar Energy, Inc.

E-9.

Omitted

E-10.

Docket# ER03-338, 000, Southern California Edison Company

E-11.

Docket# ER03-184, 000, Geysers Power Company, LLC

Other#s ER03-184, 001, Geysers Power Company, LLC

E-12.

Omitted

E-13.

Omitted

E-14.

Docket# ER03-379, 000, Southern Company Services, Inc.

E-15.

Docket# ER03-402, 000, Midwest Independent Transmission System Operator, Inc.

E-16.

Omitted

E-17.

Docket# ER03-312, 000, Pacific Gas and Electric Company

E-18.

Docket# ER03-366, 000, Midwest Independent Transmission System Operator, Inc.

Other#s ER03-368, 000, Midwest Independent Transmission System Operator, Inc.

E-19.

Docket# ER03-358, 000, Pacific Gas and Electric Company

E-20.

Omitted

E-21.

Omitted

E-22.

Docket# ER01-3001, 004, New York Independent System Operator, Inc.

E-23.

Docket# ER01-2189, 004, Mid-Continent Area Power Pool

Other#s ER01-2322, 001, Mid-Continent Area Power Pool

ER01-3003, 003, Mid-Continent Area Power Pool

ER01-3004, 001, Mid-Continent Area Power Pool

ER02-112, 003, Mid-Continent Area Power Pool

E-24.

Docket# ER02-2234, 005, California Power Exchange Corporation

Other#s ER02-2234, 006, California Power Exchange Corporation

ER02-2234, 007, California Power Exchange Corporation

ER03-139, 001, California Power Exchange Corporation

ER03-139, 002, California Power Exchange Corporation

E-25.

Docket# ER02-2008, 002, Duke Energy Corporation

E-26.

Docket# ER02-2313, 000, Southwestern Electric Power Company

E-27.

Docket# EC03-24, 000, Idaho Power Company and IDACORP Energy, L.P.

Other#s EC03-33, 000, Idaho Power Company and IDACORP Energy, L.P.

EC03-34, 000, Idaho Power Company and IDACORP Energy, L.P.

EC03-38, 000, Idaho Power Company and IDACORP Energy, L.P.

E-28.

Omitted

E-29.

Omitted

E-30.

Docket# ER02-1069, 001, Entergy Services, Inc.

Other#s EL02-88, 000, Wrightsville Power Facility, L.L.C. v. Entergy Arkansas, Inc.

ER02-1069, 002, Entergy Services, Inc.

ER02-1151, 001, Entergy Arkansas, Inc.

ER02-1151, 002, Entergy Arkansas, Inc.

ER02-1472, 001, Entergy Gulf States, Inc.

ER02-1472, 002, Entergy Gulf States, Inc.

E-31.

Omitted

E-32.

Docket# EL02-73, 001, Access Energy Cooperative

E-33.

Docket# ER02-2220, 001, Southern Company Services, Inc.

Other#s ER02-2220, 002, Southern Company Services, Inc.

E-34.

Docket# ER98-3760, 006, California Independent System Operator Corporation

Other#s EC96-19, 057, Pacific Gas and Electric Company, San Diego Gas & Electric Company and Southern California Edison Company

ER96-1663, 060, Pacific Gas and Electric Company, San Diego Gas & Electric Company and Southern California Edison Company

E-35.

Omitted

E-36.

Docket# ER02-2420, 001, Midwest Independent Transmission System Operator, Inc.

E-37.

Omitted

E-38.

Omitted

E-39.

Docket# TX96-2, 007, City of College Station, Texas

E-40.

Docket# ER02-2126, 004, Consolidated Edison Company of New York, Inc.

E-41.

Docket# EL00-89, 001, Southern California Edison Company

E-42.

Docket# NJ00-7, 000, Basin Electric Power Cooperative, Inc.

Other#s NJ00-7, 001, Basin Electric Power Cooperative, Inc.

NJ01-6, 000, Basin Electric Power Cooperative, Inc.

NJ01-6, 001, Basin Electric Power Cooperative, Inc.

NJ01-8, 000, Basin Electric Power Cooperative, Inc.

NJ01-8, 001, Basin Electric Power Cooperative, Inc.

E-43.

Omitted

E-44.

Docket# EL03-32, 000, Illinois Power Company

E-45.

Omitted

E-46.

Docket# EL03-28, 000, Town of Wallingford, Connecticut Department of Public Utilities, Electric Division and Connecticut Municipal Electric Energy Cooperative v. Connecticut Light and Power Company, Select Energy, Inc. and Northeast Utilities Service Company

E-47.

Docket# EL03-40, 000, Wisconsin Public Service Corporation v. Midwest Independent Transmisson System Operator, Inc.

E-48.

Omitted

E-49.

Docket# ER01-313, 000, California Independent System Operator Corporation

Other#s ER01-313, 001, California Independent System Operator Corporation

ER01-424, 000, Pacific Gas and Electric Company

ER01-424, 001, Pacific Gas and Electric Company

E-50.

Docket# ER02-111, 002, Midwest Independent Transmission System Operator, Inc.

Other#s ER02-652, 001, Midwest Independent Transmission System Operator, Inc.

E-51.

Docket# EL01-113, 000, Mid-Tex G&T Electric Cooperative, Inc., Big Country Electric Cooperative, Inc., Coleman County Electric Cooperative, Inc., Concho Valley Electric Cooperative, Inc., Golden Spread Electric Cooperative, Inc., Kimble Electric Cooperative, Inc., Lighthouse Electric Cooperative, Inc., Rio Grande Electric Cooperative, Inc., Southwest Texas Electric Cooperative, Inc., and Taylor Electric Cooperative, Inc., v. West Texas Utilities Company

E-52.

Docket# EL02-51, 001, California Electricity Oversight Board v. Williams Energy Services Corporation, AES Huntington Beach LLC, AES Alamitos LLC, AES Redondo Beach LLC, Mirant Americas Energy Marketing L.P., Mirant Delta LLC, Reliant Energy Services, Inc., Reliant Energy Coolwater LLC, Reliant Energy Etiwanda LLC, Reliant Energy Mandalay LLC, Reliant Energy Ormand Beach LLC, Dynergy Power Marketing, Inc., Encina Power LLC, Calpine Corporation, Geysers Power Company LLC, Southern California Edison Company, All Other Public and Non-Public Utilities Who Own or Control Generation in California and Who Sell Through the Markets or Use the Transmission Lines Operated by the California Independent System Operator Corporation, and All Scheduling Coordinators Acting on Behalf of the Above Entities

E-53.

Docket# ER02-188, 000, Geysers Power Company, LLC

Other#s ER02-236, 000, Geysers Power Company, LLC

ER02-236, 001, Geysers Power Company, LLC

ER02-407, 000, Geysers Power Company, LLC

ER02-407, 001, Geysers Power Company, LLC

E-54.

Omitted

E-55.

Docket# ER02-1422, 003, Midwest Independent Transmission System Operator, Inc.

Other#s ER02-1842, 001, Midwest Independent Transmission System Operator, Inc.

E-56.

Docket# EG03-33, 000, Wellco Services, Inc.

E-57.

Docket# ER03-45, 001, Virginia Electric and Power Company

E-58.

Docket# EL03-47, 000, Investigation of Certain Enron-Affiliated QF's

Other#s QF89-251, 008, Las Vegas Cogeneration Limited Partnership

QF90-203, 004, Las Vegas Cogeneration Limited Partnership

E-59.

Docket# EL02-114, 000, Portland General Electric Company

Other#s EL02-115, 001, Avista Corporation

Miscellaneous Agenda

M-1.

Docket# RM02-4, 000, Critical Energy Infrastructure Information

Other#s PL02-1, 000, Critical Energy Infrastructure Information

Markets, Tariffs and Rates—Gas

G-1.

Docket# RP01-503, 001, Natural Gas Pipeline Company of America

G-2.

Omitted

G-3.

Docket# RM00-11, 000 Five-Year Review of Oil Pipeline Pricing Index

Other#s RM00-11 001 Five-Year Review of Oil Pipeline Pricing Index

G-4.

Docket# OR98-11, 000, SFPP, L.P.

Other#s IS98-1, 000 et al., SFPP, L.P.

G-5.

Docket# RP03-129, 000, Panhandle Eastern Pipe Line Company

G-6.

Docket# RP03-237, 000, Transwestern Pipeline Company

G-7.

Docket# RP98-43, 000, Anadarko Gathering Company

G-8.

Docket# RP02-217, 000, Panhandle Eastern Pipe Line Company

G-9.

Docket# RP00-335, 001, Black Marlin Pipeline Company

Other#s RP03-167, 000, Black Marlin Pipeline Company

G-10.

Docket# RP00-482, 003, CenterPoint Energy Gas Transmission Company

Other#s RP00-482, 004, CenterPoint Energy Gas Transmission Company

G-11.

Docket# RP00-401, 001, Enbridge Pipelines (AlaTenn) Inc.

Other#s RP01-4, 004, Enbridge Pipelines (AlaTenn) Inc.

G-12.

Docket# RP02-331, 002, PG&E Gas Transmission, Northwest Corporation

G-13.

Docket# RP00-535, 004, Texas Eastern Transmission, LP

Other#s RP03-194, 000, Texas Eastern Transmission, L.P.

G-14.

Docket# RP02-158, 001, Viking Gas Transmission Company

G-15.

Docket# RP00-533, 004, Algonquin Gas Transmission Company

Other#s RP03-193, 000, Algonquin Gas Transmission Company

G-16.

Omitted

G-17.

Omitted

G-18.

Docket# RP00-468, 004, Texas Eastern Transmission Corporation

Other#s RP00-468, 005, Texas Eastern Transmission Corporation

RP01-25, 004, Texas Eastern Transmission, LP

RP01-25, 005, Texas Eastern Transmission, LP

RP03-175, 000, Texas Eastern Transmission, LP

G-19.

Docket# RP00-387, 001, Florida Gas Transmission Company

Other#s RP00-387, 002, Florida Gas Transmission Company

RP00-583, 002, Florida Gas Transmission Company

RP00-583, 003, Florida Gas Transmission Company

RP03-165, 000, Florida Gas Transmission Company

G-20.

Docket# RP00-410, 002, CenterPoint Energy-Mississippi River Transmission Corporation

Other#s RP00-410, 003, CenterPoint Energy-Mississippi River Transmission Corporation

RP01-8, 002, CenterPoint Energy-Mississippi River Transmission Corporation

RP01-8, 003, CenterPoint Energy-Mississippi River Transmission Corporation

G-21.

Omitted

G-22.

Docket# RP00-398, 001, Overthrust Pipeline Company

Other#s RP00-398, 002, Overthrust Pipeline Company

RP01-34, 003, Overthrust Pipeline Company

RP01-34, 004, Overthrust Pipeline Company

G-23.

Omitted

G-24.

Docket# RP99-485, 001, Enbridge Pipelines (KPC)

G-25.

Omitted

G-26.

Docket# RP02-505, 002, Kinder Morgan Interstate Gas Transmission LLC

G-27.

Omitted

G-28.

Docket# IS02-403, 001, Shell Pipeline Company LP

G-29.

Docket# PR02-16, 002, Calpine Texas Pipeline, L.P.

G-30.

Docket# RP03-229, 000, Tennessee Gas Pipeline Company

G-31.

Docket# RP02-363, 003, North Baja Pipeline LLC

G-32.

Docket# RP00-275, 000, Chesapeake Panhandle Limited Partnership v. Natural Gas Pipeline Company of America, MidCon Gas Products Corp., MidCon Gas Services Corp, KN Energy, Inc., and Kinder Morgan, Inc.

Energy Projects—Hydro

H-1.

Docket# RM02-16, 000, Hydroelectric Licensing under the Federal Power Act

H-2.

Omitted

H-3.

Docket# P-2671, 042, Kennebec Water Power Company

H-4.

Omitted

H-5.

Docket# JR00-2, 000, James M. Knott

Other#s P-9100, 011, James M. Knott

H-6.

Docket# DI02-3, 001, AquaEnergy Group Ltd.

Energy Projects—Certificates

C-1.

Docket# CP02-387, 000, Petal Gas Storage, L.L.C.

C-2.

Docket# CP02-381, 000, Texas Eastern Transmission, L.P.

C-3.

Docket# CP03-7, 000, Colorado Interstate Gas Company

C-4.

Docket# CP02-1, 003, Southern Natural Gas Company

C-5.

Docket# CP01-416, 001, Sierra Production Company

C-6.

Docket# CP98-131, 005, Vector Pipeline L.P.

C-7.

Docket# CP01-415, 004, East Tennessee Natural Gas Company

Other#s CP01-375, 001, East Tennessee Natural Gas Company

CP01-375, 002, East Tennessee Natural Gas Company

CP01-415, 007, East Tennessee Natural Gas Company

C-8.

Docket# CP02-431, 000, Colorado Interstate Gas Company, RME Petroleum Company and Chevron U.S.A.

C-9.

Docket# CP01-36, 000, Zia Natural Gas Company, an Operating Division of Natural Gas Processing Company v. Raton Gas Transmission Company

Other#s CP01-52, 000, Raton Gas Transmission Company

CP01-382, 000, Zia Natural Gas Company, an Operating Division of Natural Gas Processing Company v. Raton Gas Transmission Company

CP01-383, 000, Raton Gas Transmission Company

C-10.

Docket# CP01-76, 001, Cove Point LNG Limited Partnership

Other#s CP01-76, 000, Cove Point LNG Limited Partnership

CP01-77, 000, Cove Point LNG Limited Partnership

CP01-77, 001, Cove Point LNG Limited Partnership

CP01-156, 000, Cove Point LNG Limited Partnership

CP01-156, 001, Cove Point LNG Limited Partnership

RP01-217, 000, Cove Point LNG Limited Partnership

RP01-217, 001, Cove Point LNG Limited Partnership

Magalie R. Salas,
Secretary.

[FR Doc. 03-4169 Filed 2-14-03; 4:00 pm]

BILLING CODE 6717-01-P